DEPARTMENT OF HEALTH AND HUMAN SERVICES

National Institutes of Health

National Cancer Institute; Submission for OMB Review, Comments Request; Improving Media Coverage of Cancer: A Survey of Science and Health Reporters

SUMMARY: In compliance with the requirement of section 3507(a)(1)(D) of the Paperwork Reduction Act of 1995, the National Cancer Institute, the National Institutes of Health (NIH) has submitted to the Office of Management and Budget (OMB) a request for review and approval of the information collection listed below. This proposed information collection was previously published in the Federal Register on March 11, 2004, page 11638 and allowed 60 days for public comment. The purpose of this notice is to allow an additional 30 days for public comment. The National Institutes of Health may not conduct or sponsor, and the respondent is not required to respond to, an information collection that has been extended, revised, or implemented on or after October 1, 1995, unless it displays a currently valid OMB control number.

Proposed Collection

Title: Improving Media Coverage of Cancer: A Survey of Science and Health Reporters.

Type of Information Collection Request: New.

Need and Use of Information Collection: The NCI is dedicated to improving the extent and quality of cancer coverage in all forms of news media. Towards this goal, the NCI would like to explore how health stories are currently being covered in print, television, and radio news coverage and would also like to understand the barriers that exist to better health and cancer coverage. Information from this research can be used to support the myriad of efforts and initiatives of the NCI as described in the Bypass Budget to “understand and apply the most effective communications approaches to maximize access to and use of cancer information by all who need it.” The primary objective of the NCI Media survey of reporters and editors covering health and medical science news stories in the U.S. is to gain knowledge of their background, environment, perspectives, and training needs in an effort to develop initiatives that will improve news media reportage of health in general and cancer in particular. Six hundred reporters and editorial personnel of daily and weekly newspapers, magazines, wire service agencies, and television and radio stations with a specific focus on health and medical science reporting will be surveyed to determine their socio-demographic characteristics, individual characteristics, occupational practices, and other organizational and environmental factors that influence how they report health and medical science stories. This information will allow NCI to assess reporters' training needs, the barriers they face, and the resources NCI can develop to assist them in reporting cancer-related stories.

Frequency of Response: Once.

Affected Public: Individuals and businesses.

Type of Respondents: Reporters and editors.

The annual reporting burden is as follows:

Estimated Number of Respondents: 600;

Estimated Number of Responses per Respondent: 1;

Average Burden Hours per Response: .25; and

Estimated Total Annual Burden Hours Requested: 150.

The total estimated cost to respondents is $2,838. There are no Capital Costs to report. There are no Operating or Maintenance Costs to report.

Respondents | Number of respondents | Number of responses per respondent | Average burden per response (in hours) | Total burden (in hours)
Reporters | 600 | 1 | .25 | 150
Total |  |  |  | 150

Request for Comments: Written comments and/or suggestions from the public and affected agencies should address one or more of the following points: (1) Evaluate whether the proposed collection of information is necessary for the proper performance of the function of the agency, including whether the information will have practical utility; (2) evaluate the accuracy of the agency's estimate of the burden of the proposed collection of information, including the validity of the methodology and assumptions used; (3) enhance the quality, utility, and clarity of the information to be collected; and (4) minimize the burden of the collection of information on those who are to respond, including the use of appropriate automated, electronic, mechanical, or other technological collection techniques or other forms of information technology.

Direct Comments to OMB: Written comments and/or suggestions regarding the item(s) contained in this notice, especially regarding the estimated public burden and associated response time, should be directed to the: Office of Management and Budget, Office of Regulatory Affairs, New Executive Office Building, Room 10235, Washington, DC 20503, Attention: Desk Officer for NIH. To request more information on the proposed project or to obtain a copy of the data collection plans and instruments, contact: Helen I. Meissner, PhD, Chief, Applied Cancer Screening Research Branch, Behavioral Research Program, Division of Cancer Control and Population Sciences, National Cancer Institute, Executive Plaza North, Suite 4102, 6130 Executive Boulevard, MSC 7331, Bethesda, MD 20892-7331, or call non-toll-free number (301) 435-8236 or e-mail your request, including your address to: meissneh@mail.nih.gov.

Comments Due Date: Comments regarding this information collection are best assured of having their full effect if received within 30 days of the date of this publication.

Dated: September 9, 2004.
Rachelle Ragland Greene,
NCI Project Clearance Liaison, National Institutes of Health.

[FR Doc. 04-20947 Filed 9-16-04; 8:45 am]

BILLING CODE 4140-01-M